DEPARTMENT OF LABOR
Office of the Secretary
Submission for OMB Review; Comment Request
January 21, 2004

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor. To obtain documentation, contact Ira Mills on 202-693-4122 (this is not a toll-free number) or e-mail: mills.ira@dol.gov.

Comments should be sent to Office of Information and Regulatory Affairs, Attn: OMB Desk Officer for the Employee Benefits Security Administration, Office of Management and Budget, Room 10235, Washington, DC 20503, 202-395-7316 (this is not a toll-free number), within 30 days from the date of this publication in the Federal Register.
The OMB is particularly interested in comments which:
• Evaluate whether the proposed collection of information is necessary for the proper performance of the functions of the agency, including whether the information will have practical utility;
• Evaluate the accuracy of the agency's estimate of the burden of the proposed collection of information, including the validity of the methodology and assumptions used;
• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension of a currently approved collection.

Title: Employee Benefit Plan Claims Procedures under the Employee Retirement Income Security Act of 1974 (ERISA).

OMB Number: 1210-0053.

Affected Public: Individuals or household; Business or other for-profit; Not-for-profit institutions.

Type of Response: Recordkeeping; Third party disclosure.

Frequency: On Occasion.

Number of Respondents: 6,700,000.

Annual Responses: 18,000,000.

Total Burden: 336,200.

Total Annualized Capital/Startup Costs: $0.

Total Annual Costs (operating/maintaining systems or purchasing services): $90,582,000.

Description: This collection requirements are intended to insure that participants' claims for benefits are given a full and fair review, and that claimants are provided with enough information to understand and request a review of claims decisions. The regulation (29 CFR 2560.503-1), which clarifies the statutory provisions, requires that every claimant who is denied a claim shall be provided with written or electronic notice which contains the specific reasons for denial, a reference to the relevant plan provisions on which the denial is based, a description of steps to be taken if the participant or beneficiary wishes to appeal the denial. The regulation also requires that any adverse decision upon review shall be in writing or by electronic notice and shall include specific reasons for the decision as well as references to relevant plan provisions.

Agency: Employee Benefits Security Administration.

Type of Review: Extension of a currently approved collection.

Title: Prohibited Transaction Exemption 80-83—Securities Purchases for Debt Reduction of Retirement.

OMB Number: 1210-0064.

Affected Public: Business or other for-profit; Individuals or household; Not-for-profit institutions.

Type of Response: Recordkeeping; Third party disclosure.

Frequency: On occasion.

Number of Respondents: 25.

Annual Responses: 25.

Total Burden: 2.

Total Annualized Capital/Startup Costs: $0.

Total Annual Costs (operating/maintaining systems or purchasing services); $0.

Description: This class exemption allows employee benefit plans to purchase securities to reduce or retire indebtedness to a party in interest. These transactions would otherwise be prohibited under ERISA's prohibited transaction provision. Thus, without the relief provided by the class exemption, a standard type of financial/business transaction between financial service providers and employee benefit plans would be barred. Such a result would not be in the best interest of the plan, its participants and beneficiaries, or the financial services industry.

Agency: Employee Benefits Security Administration.

Type: Extension of a currently approved collection.

Title: Prohibited Transaction Exemption 75-1—Broker-Dealers, Reporting Dealers, Banks Engaging in Securities Transactions.

OMB Number: 1210-0092.

Affected Public: Business or other for-profit; Individuals or household; Not-for-profit institutions.

Type of Response: Recordkeeping; Third party disclosure.

Frequency: On Occasion.

Number of Respondents: 10,600.

Annual Responses: 10,600.

Total Burden: 883.

Total Annualized Capital/Startup Costs: $0.

Total Annual Costs: (operating/maintaining systems or purchasing services): $0.

Description: The class exemption allows broker-dealers, reporting dealers and banks to engage in securities transactions with employee benefit plans. These transactions would otherwise be prohibited under ERISA's prohibited transaction provisions. Thus, without the relief provided by the class exemption, standard financial/business transactions between financial service providers and employee benefit plans would be barred. Such a result would not be in the best interest of plans, their participants and beneficiaries, or the financial services industry.

Agency: Employee Benefits Security Administration.

Type of Review: Extension of a currently approved collection.

Title: Prohibited Transactions Exemption 88-59—Residential Mortgage Financing Arrangements Involving Employee Benefit Plans.

OMB Number: 1210-0095.

Affected Public: Business or other for-profit; Individuals or household; Not-for-profit institutions.

Type of Response: Recordkeeping; Third party disclosure.

Frequency: On Occasion.

Number of Respondents: 420.

Annual Responses: 2,100

Total Burden: 175.

Total Annualized Capital/Startup Costs: $0.

Total Annual Costs (operating/maintaining systems or purchasing services): $0.

Description: Prohibited Transaction Class Exemption 88-59 provides an exemption from prohibited transaction provisions of the Employment Retirement Income Security Act of 1974 (ERISA) and from certain taxes imposed by the Internal Revenue Code of 1986.
The exemption permits, under certain conditions, an employee benefit plan to provide mortgage financing to purchasers of residential dwelling units. The mortgage financing may be either by making or participating in loans directly to purchasers or by purchasing mortgage land or participation interests in mortgage loans originated by a third party. Plan investments in real estate mortgage loans typically involved a continuing relationship between the seller of the mortgage loan and the plan for purposes of servicing the mortgage loan investment. This provision of services by the seller creates a party in interest relationship between such servicer and the investing plan. Accordingly, any subsequent purchase of mortgage loans from such existing party in interest service provider results in a prohibited transaction.
By requiring that records pertaining to the exempted transaction be maintained for the duration of any loan made pursuant to Prohibited Transaction Class Exemption 88-59, this ICR insures that the exemption is not abused, the rights of the participants and beneficiaries are protected, and that compliance with the exemption's conditions can be confirmed. The exemption affects participants and beneficiaries of the plans that are involved in such transactions as well as the seller of the mortgage loans.

Ira L. Mills,
Departmental Clearance Officer.

[FR Doc. 04-1952 Filed 1-29-04; 8:45 am]
BILLING CODE 4512-29-M